DEPARTMENT OF COMMERCE

International Trade Administration

[A-549-502]

Circular Welded Carbon Steel Pipes and Tubes From Thailand: Final Results of Antidumping Duty New Shipper Review

AGENCY: Import Administration, International Trade Administration, Department of Commerce.

SUMMARY: On August 31, 2009, the Department of Commerce (the Department) published the preliminary results of a semiannual new shipper review under the antidumping duty order on circular welded carbon steel pipes and tubes (pipes and tubes) from Thailand. See Circular Welded Carbon Steel Pipes and Tubes from Thailand: Preliminary Results of Antidumping Duty New Shipper Review, 74 FR 44825 (August 31, 2009) (Preliminary Results). This new shipper review covers one producer/exporter of the subject merchandise to the United States, Pacific Pipe Public Company Limited (Pacific Pipe). The period of review (POR) is March 1, 2008 through September 30, 2008. Subsequent to the Preliminary Results, we conducted verification and provided parties with an opportunity to comment. We received timely case and rebuttal briefs, and have made changes to our calculation as a result of verification and based on our analysis of the comments. Therefore, the final results differ from those published in the Department's Preliminary Results. The final weighted-average dumping margin for the reviewed firm is listed below in the section entitled “Final Results of the Review.”

DATES: Effective Date: January 28, 2010.

FOR FURTHER INFORMATION CONTACT: Myrna Lobo, AD/CVD Operations, Office 6, Import Administration, International Trade Administration, U.S. Department of Commerce, 14th Street and Constitution Avenue, NW., Washington, DC 20230; telephone: (202) 482-2371.

SUPPLEMENTARY INFORMATION:

Background

On August 31, 2009, the Department published the preliminary results of a semiannual new shipper review under the antidumping duty order covering pipes and tubes from Thailand. See Preliminary Results. The domestic interested parties for this proceeding are Allied Tube & Conduit Corporation and Wheatland Tube Company (petitioners).

On September 17, 2009, the Department issued a third supplemental questionnaire to Pacific Pipe in order to evaluate further the bona fide nature of Pacific Pipe's U.S. sale and to seek clarification on sales information previously submitted. Pacific Pipe timely responded on September 29, 2009. The Department conducted a verification of Pacific Pipe in Bangkok, Thailand in October 2009 and issued a verification report. See Memorandum to File from Myrna Lobo, International Trade Compliance Analyst, Office 6, Verification of the Sales Response of Pacific Pipe Public Company, Limited in the Antidumping New Shipper Review of Circular Welded Carbon Steel Pipes and Tubes from Thailand, dated November 5, 2009 (Verification Report). We invited parties to comment on the Preliminary Results and Verification Report. We received a timely filed case brief from Pacific Pipe and a timely filed rebuttal brief from petitioners. The Department did not receive a request for a hearing.

On November 19, 2009, the Department published a notice extending the deadline for the final results to January 21, 2009. See Circular Welded Carbon Steel Pipes and Tubes from Thailand: Extension of Time Limit for Final Results of Antidumping Duty New Shipper Review, 74 FR 59961 (November 19, 2009).

Scope of the Order

The products covered by this antidumping order are certain welded carbon steel pipes and tubes from Thailand. The subject merchandise has an outside diameter of 0.375 inches or more, but not exceeding 16 inches. These products, which are commonly referred to in the industry as “standard pipe” or “structural tubing,” are hereinafter designated as “pipes and tubes.” The merchandise is classifiable under the Harmonized Tariff Schedule of the United States (HTSUS) item numbers 7306.30.1000, 7306.30.5025, 7306.30.5032, 7306.30.5040, 7306.30.5055, 7306.30.5085, and 7306.30.5090. Although the HTSUS subheadings are provided for convenience and purposes of U.S. Customs and Border Protection (CBP), our written description of the scope of the order is dispositive.

Bona Fides Analysis of U.S. Sale

In the Preliminary Results, we determined that Pacific Pipe's U.S. sale was a bona fide transaction. See Memorandum to Dana Mermelstein, Program Manager, from Myrna Lobo, Case Analyst, regarding Bona Fide Nature of the Sale in the Antidumping Duty New Shipper Review of Circular Welded Carbon Steel Pipes and Tubes from Thailand: Pacific Pipe Public Company, Limited, dated August 24, 2009 (Bona Fides Preliminary Memorandum). The Department also stated it would continue to examine, through the remainder of the review, all factors relating to the bona fides of the sale. We have further examined the bona fides of Pacific Pipe's U.S. sale, and for these final results we continue to find the sale to be a bona fide transaction. For further details, see Memorandum to Dana Mermelstein, Program Manager, from Myrna Lobo, Case Analyst, Bona Fide Analysis of Pacific Pipe's U.S. Sale for the Final Results of Antidumping Duty New Shipper Review of Circular Welded Carbon Steel Pipes and Tubes from Thailand: Pacific Pipe Public Company, Limited, dated concurrently with this notice (Bona Fides Final Memorandum).

Verification

As provided in 19 CFR 351.307(b)(1)(iv), the Department conducted verification of Pacific Pipe's questionnaire responses at the company's offices in Bangkok, Thailand from October 5 through 8, 2009. Our verification results are detailed in the Verification Report.

Analysis of Comments Received

All issues raised in Pacific Pipe's case brief and petitioners' rebuttal brief are addressed in the Memorandum to Ronald K. Lorentzen, Deputy Assistant Secretary for Import Administration, from John M. Andersen, Acting Deputy Assistant Secretary for Antidumping and Countervailing Duty Operations, Antidumping Duty New Shipper Review of Circular Welded Carbon Steel Pipes and Tubes from Thailand—Pacific Pipe Public Company, Limited: Issues and Decision Memorandum for the Final Results, dated concurrently with this notice (Issues and Decision Memorandum), which is hereby adopted by this notice. A list of the issues raised, all of which are addressed in the Issues and Decision Memorandum, is appended to this notice. Parties can find a complete discussion of all issues raised in the case and rebuttal briefs and the corresponding recommendations in this public memorandum, which is on file in the Central Records Unit (CRU), room 1117 of the main Department of Commerce building. In addition, a complete version of the Issues and Decision Memorandum can be accessed directly on the Web at http://www.trade.gov/ia/. The paper copy and electronic version of the Issues and Decision Memorandum are identical in content.

Changes Since the Preliminary Results

Based on the results of verification and our analysis of the comments received from the interested parties, we have made changes where appropriate, to the margin calculation for Pacific Pipe. Specifically, we have excluded certain sales from the margin calculation which we consider to be scrap sales; we have included expenses incurred on U.S. packing and other U.S. direct selling expenses (such as certain bank charges) identified at verification; and finally, we have combined ASTM A53 Grade A and Grade B sales in the home market, consistent with the product matching criteria. For a complete discussion of the changes which the Department has made to the margin calculation for Pacific Pipe, see Memorandum to Dana Mermelstein, Program Manager, from Myrna Lobo, Case Analyst, Analysis of Pacific Pipe Public Company, Limited, for the Final Results of the Antidumping Duty New Shipper Review of Circular Welded Carbon Steel Pipes and Tubes from Thailand for the period 03/01/2008 through 09/30/2008, dated January 21, 2010 (Final Analysis Memorandum). A public version of this memorandum is on file in the CRU.

Final Results of the Review

We determine the following percentage weighted-average margin exists for the period March 1, 2008 through September 30, 2008:

Manufacturer/exporter | Margin (percent)
Pacific Pipe Public Co., Ltd | 5.14

Disclosure

We will disclose the calculations used in our analysis to parties to these proceedings within five days of the date of publication of this notice. See 19 CFR 351.224(b).

Assessment

The Department will determine, and U.S. Customs and Border Protection (CBP) shall assess, antidumping duties on all appropriate entries. In accordance with 751(a)(2) of the Tariff Act of 1930, as amended (the Act), and 19 CFR 351.212(b)(1), the Department normally calculates an assessment rate for each importer of the subject merchandise covered by the review. Pacific Pipe reported the entered value of its sale of subject merchandise to the United States during the POR. Therefore, in accordance with 19 CFR 351.212(b)(1), we have calculated importer-specific duty assessments rates by dividing the dumping margin found on the subject merchandise examined by the entered value of such merchandise for normal customs duty purposes. Where the assessment rate is above de minimis, we will instruct CBP to assess duties on all entries of subject merchandise by that importer. The Department intends to issue assessment instructions directly to CBP 15 days after publication of these final results of review.

Cash Deposit Requirements

The following cash deposit requirements will be effective upon publication of this notice of final results of new shipper review for all shipments of circular welded carbon steel pipes and tubes entered, or withdrawn from warehouse, for consumption on or after the date of publication, as provided by section 751(a)(2)(C) of the Act: (1) For subject merchandise produced and exported by Pacific Pipe, the cash deposit rate will be the rate established in the final results of this new shipper review; (2) if the exporter is not a firm covered in this review, a prior review, or the original less-than-fair value investigation, but the manufacturer is, the cash-deposit rate will be the rate established for the most recent period for the manufacturer of the merchandise; and (3) the cash-deposit rate for all other manufacturers or exporters will continue to be the all-others rate of 15.67 percent, which is the all-others rate established in the less than fair value investigation. See Circular Welded Carbon Steel Pipes and Tubes from Thailand: Final Determination of Sales at Less Than Fair Value, 51 FR 3384 (January 27, 1986). These cash deposit requirements shall remain in effect until further notice.

Notification to Importers

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding Administrative Protective Orders

This notice also serves as a reminder to parties subject to administrative protective orders (APO) of their responsibility concerning the return or destruction of proprietary information disclosed under APO in accordance with 19 CFR 351.305, which continues to govern business proprietary information in this segment of the proceeding. Timely written notification of the return or destruction of APO materials or conversion to judicial protective order is hereby requested. Failure to comply with the regulations and terms of an APO is a violation that is subject to sanction.

The final results of this new shipper review are issued and published in accordance with sections 751(a)(2)(B) and 777(i) of the Act and 19 CFR 351.214.

Dated: January 21, 2010.
Ronald K. Lorentzen,
Deputy Assistant Secretary for Import Administration.

Appendix

Comments in the Issues and Decision Memorandum

Comment 1: Whether the Department Should Use Invoice Date as the Date of Sale for the U.S. Sale in the Final Results.

Comment 2: Whether the Department Should Continue to Treat Home Market Pre-Sale Freight and Warehousing Expenses as Movement Expenses.

Comment 3: Whether Pacific Pipe Has Established that Transportation Rates Paid to its Affiliated Carrier Are at Arm's Length.

[FR Doc. 2010-1783 Filed 1-27-10; 8:45 am]

BILLING CODE 3510-DS-P